DEPARTMENT OF HEALTH AND HUMAN SERVICES

National Institutes of Health

Center for Scientific Review; Amended Notice of Meeting

Notice is hereby given of a change in the meeting of the Center for Scientific Review Special Emphasis Panel, Small Business: The Cancer Biotherapeutics Development (CBD), March 27, 2020 08:00 a.m. to March 27, 2020, 05:00 p.m., Embassy Suites at the Chevy Chase Pavilion, 4300 Military Road NW, Washington, DC 20015, which was published in the Federal Register on March 4, 2020, 85 FR 12799.

The meeting location is being held at the National Institutes of Health, 6701 Rockledge Drive, Bethesda, MD 20892. The meeting date and time remain the same.

Dated: March 11, 2020.
Ronald J. Livingston, Jr.,
Program Analyst, Office of Federal Advisory Committee Policy.

[FR Doc. 2020-05430 Filed 3-16-20; 8:45 am]

BILLING CODE 4140-01-P